DEPARTMENT OF HEALTH AND HUMAN SERVICES

Administration for Children and Families

Proposed Information Collection Activity; Refugee Data Submission System for Formula Funds Allocations (ORR-5) (OMB #0970-0043)

AGENCY: Office of Refugee Resettlement, Administration for Children and Families, HHS.

ACTION: Request for public comment.

SUMMARY: The Office of Refugee Resettlement (ORR), Administration for Children and Families (ACF), U.S. Department of Health and Human Services (HHS), is proposing to extend approval for data collection using the current Refugee Data Submission System for Formula Funds Allocations (ORR-5) until January 31, 2021, and revise the current form for use after Fiscal Year (FY) 2020. The revised form will collect additional client-level data.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: ORR-5 is designed to satisfy the statutory requirements of the Immigration and Nationality Act (INA). Section 412(a)(3) of INA (8 U.S.C. 1522(a)(3)) requires that the Director of ORR make a periodic assessment of the needs of refugees for assistance and services and the resources available to meet those needs. ORR proposes an extension with no changes to the current form until January 31, 2021, to ensure continuous information collection for FY 2020. ORR also proposes revisions to the current form for use after FY 2020. Revisions include collecting additional client-level data elements on the ORR-5 at multiple points in time, which will allow the ORR Director to better understand client goals, services utilized, and the outcomes achieved by the population ORR serves. New data elements include additional demographics, primary goals identified and referrals made to work toward self-sufficiency, progress made toward achieving said goals, and employment status of employable refugees 12 months post-enrollment. The data collected will inform evidence-based policy making and program design. These revisions also enable ORR to monitor implementation of the requirements put forth in Policy Letter 19-07.

Respondents: States, Replacement Designees, and the District of Columbia.

Annual Burden Estimates
Instrument | Total number of respondents | Total number of responses per respondent | Average burden hours per response | Total burden hours | Annual burden hours
Refugee Data Submission for Formula Funds Allocations (ORR-5)—Current (through January 31, 2021) | 50 | 1 | 22 | 1,100 | * 367
Refugee Data Submission for Formula Funds Allocations (ORR-5)—Revised | 50 | 3 | 42 | 6,300 | 2,100
* Burden is annualized over the full 3-year request period, but this form will be complete within the 1st year.

Estimated Total Annual Burden Hours: 2,467.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522(a)(3).

John M. Sweet Jr,
ACF/OPRE Certifying Officer.

[FR Doc. 2020-14674 Filed 7-7-20; 8:45 am]

BILLING CODE 4184-45-P